DEPARTMENT OF COMMERCE

National Oceanic and Atmospheric Administration

Agency Information Collection Activities; Submission to the Office of Management and Budget (OMB) for Review and Approval; Comment Request; Papahanaumokuakea Marine National Monument Permit Application and Reports for Permits

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps the agency [or department] to assess the impact of our information collection requirements and minimize the public's reporting burden. The purpose of this notice is to allow for 60 days of public comment preceding submission of the collection to the Office of Management and Budget (OMB).

DATES: To ensure consideration, comments regarding this proposed information collection must be received on or before October 27, 2023.

ADDRESSES: Interested persons are invited to submit written comments to Adrienne Thomas, NOAA PRA Officer, at NOAA.PRA@noaa.gov. Please reference OMB Control Number 0648-0548 in the subject line of your comments. Do not submit Confidential Business Information or otherwise sensitive personally identifiable information or any other type of protected information.

FOR FURTHER INFORMATION CONTACT: Requests for additional information or specific questions related to collection activities should be directed to Phillip Howard, Permit Specialist, NOAA Office of National Marine Sanctuaries, 1845 Wasp Blvd., Building 176 Honolulu, HI 96818, (808-725-5800), and phillip.howard@noaa.gov.

SUPPLEMENTARY INFORMATION:

I. Abstract

On June 15, 2006, President Bush established the Papahanaumokuakea Marine National Monument by issuing Presidential Proclamation 8031 (71 FR 36443, June 26, 2006), as amended on February 28, 2007 by Presidential Proclamation 8112 (72 FR 10031, March 6, 2007), under the authority of the Antiquities Act (54 U.S.C. 320301 et seq.). The Secretary of Commerce, through the National Oceanic and Atmospheric Administration (NOAA), has primary responsibility regarding the management of the marine areas of the Monument, in consultation with the Secretary of the Interior. Similarly, the Secretary of the Interior, through the Fish and Wildlife Service (FWS), has sole responsibility for management of the areas of the Monument that overlay the Midway Atoll National Wildlife Refuge, the Battle of Midway National Memorial, and the Hawaiian Islands National Wildlife Refuge, in consultation with the Secretary of Commerce.

Presidential Proclamations 8031 and 8112 include restrictions and prohibitions regarding activities in the Monument. Specifically, the Proclamations prohibit access to the Monument except when passing through without interruption or as allowed under a permit issued by NOAA and the FWS. Vessels passing through the Monument without interruption are required to notify NOAA and FWS upon entering into and leaving the monument. Individuals wishing to access the Monument to conduct certain regulated activities must first apply for and be granted a permit issued by NOAA and FWS.

On August 29, 2006, NOAA and FWS published a final rule codifying the provisions of Presidential Proclamation 8031 (71 FR 51134). These agencies have since worked extensively with the State of Hawaii to ensure the permitting requirements and processes of all three entities are sufficiently coordinated and to ensure applicants for permits for Monument activities require only a single application and receive one, combined agency permit.

The information submitted by permit applicants will be used to decide whether to approve or deny a permit application. In making this decision, the agencies will consider such factors as:

• the professional qualifications and financial ability of the applicant as related to the proposed activity;

• the duration of the activity and its effects;

• the appropriateness of the methods and procedures proposed by the applicant for the conduct of the activity;

• the extent to which the conduct of the activity may diminish or enhance the qualities for which the Monument was designated;

• the end value of the activity; and

• other such matters as agency staff deem appropriate.

In addition to informing the agencies' decisions on permit applications, information submitted in permit applications and reports submitted pursuant to permit conditions may also be used by the agencies to inform—

• administrative appeals of permit decisions;

• decision making on a permit amendment request or another permit application; or

• other management actions (e.g., emergency response and enforcement).

In terms of frequency of use, the information submitted in permit applications will, in general, only be used at the time the application is submitted to make a final decision on the application. Some of the information may also be used subsequent to the initial decision making to inform management actions or decision making. For example, a survey of a project location by one permit applicant may be used by the agencies in the future to respond to a vessel grounding in the same area to facilitate the agencies' decision in response to that matter. Information submitted in a report will be used to periodically assess the permittee's compliance with permit terms and conditions and to assist in evaluating the appropriateness of the permitted activity.

II. Method of Collection

Respondents have a choice of either electronic or paper forms. Methods of submittal include email of electronic forms, and mail and facsimile transmission of paper forms.

III. Data

OMB Control Number: 0648-0548.

Form Number(s): None.

Type of Review: Regular submission, extension of a current information collection.

Affected Public: Individuals, non-profit institutions; Federal, State, local, government, Native Hawaiian organizations; business or other for-profit organizations.

Estimated Number of Respondents: 411.

Estimated Time per Response: Conservation and Management and Education (“general” permits), 5 hours; Special Ocean Use permits, 10 hours; Native Hawaiian Practices permits, 8 hours; Recreation permits, 6 hours; permit modification requests and final reports, 10 hours; and annual reports, 5 hours.

Estimated Total Annual Burden Hours: 1,343.

Estimated Total Annual Cost to Public: $61,783 in recordkeeping/reporting costs and vessel monitoring system installation and maintenance.

Respondent's Obligation: Required to Obtain or Retain Benefits, or Mandatory.

Legal Authority: 54 U.S.C. 320301 et seq.; 16 U.S.C. 1801 et seq.; 16 U.S.C. 742f, 16 U.S.C. 742l; 16 U.S.C. 1431 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Review. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-18477 Filed 8-25-23; 8:45 am]

BILLING CODE 3510-NK-P